DEPARTMENT OF THE INTERIOR

National Park Service

[NPS-WASO-NAGPRA-NPS0029317; PPWOCRADN0-PCU00RP14.R50000]

Notice of Inventory Completion: Federal Bureau of Investigation, Art Theft Program, Washington, DC

AGENCY: National Park Service, Interior.

ACTION: Notice.

SUMMARY: The Federal Bureau of Investigation (FBI) has completed an inventory of human remains in consultation with the appropriate Indian Tribes or Native Hawaiian organizations, and has determined that there is no cultural affiliation between the human remains and any present-day Indian Tribes or Native Hawaiian organizations. Representatives of any Indian Tribe or Native Hawaiian organization not identified in this notice that wish to request transfer of control of these human remains should submit a written request to the FBI. If no additional requestors come forward, transfer of control of the human remains to the Indian Tribes or Native Hawaiian organizations stated in this notice may proceed.

DATES: Representatives of any Indian Tribe or Native Hawaiian organization not identified in this notice that wish to request transfer of control of these human remains should submit a written request with information in support of the request to the FBI at the address in this notice by February 27, 2020.

ADDRESSES: Federal Bureau of Investigation, FBI Headquarters, Attn: Supervisory Special Agent Timothy Carpenter, Art Theft Program, 935 Pennsylvania Avenue NW, Washington, DC 20535, telephone (954) 931-3670, email artifacts@ic.fbi.gov.

SUPPLEMENTARY INFORMATION: Notice is here given in accordance with the Native American Graves Protection and Repatriation Act (NAGPRA), 25 U.S.C. 3003, of the completion of an inventory of human remains under the control of the Federal Bureau of Investigation, Washington, DC. The human remains were removed from the northern New Mexico and Arizona border.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the FBI in consultation with the Fort Sill Apache Tribe of Oklahoma; Gila River Indian Community of the Gila River Indian Reservation, Arizona; Hopi Tribe of Arizona; Mescalero Apache Tribe of the Mescalero Reservation, New Mexico; Pueblo of Acoma, New Mexico; Pueblo of Jemez, New Mexico; Pueblo of Laguna, New Mexico; Pueblo of Picuris, New Mexico; and the Salt River Pima-Maricopa Indian Community of the Salt River Reservation, Arizona (hereafter referred to as “The Consulted Tribes”).

History and Description of the Remains

In 2008, human remains representing, at minimum, 10 individuals were removed from somewhere on the northern New Mexico and Arizona border. The human remains were later transported to Indiana, where they remained part of a private collection of Native American antiquities and cultural heritage. In April 2014, the human remains were seized by the FBI as part of a criminal investigation. The human remains represent one young adult female, three young-to-middle age adult females, three middle-to-old age adult females, two middle-to-old age adult males, and one individual of unknown age and sex. No known individuals were identified. No associated funerary objects are present.

In May 2017, the FBI consulted with all the Indian Tribes who are recognized as aboriginal to the border region of northwest New Mexico and northeast Arizona. At this consultation, the Hopi Tribe of Arizona agreed to accept control of the human remains on behalf of all The Consulted Tribes. The Consulted Tribes concurred.

Oral traditions and archeological site analyses indicate that several populations of Ancestral Puebloan peoples inhabited this region of the New Mexico and Arizona border. Ancestral Puebloan peoples are considered to be the ancestors of contemporary Pueblo peoples, including the Hopi Tribe of Arizona.

Determinations Made by the Federal Bureau of Investigation

Officials of the Federal Bureau of Investigation have determined that:

• Pursuant to 25 U.S.C. 3001(9), the human remains described in this notice are Native American, based on consultation information and non-invasive/non-destructive skeletal analysis.

• Pursuant to 25 U.S.C. 3001(9), the human remains described in this notice represent the physical remains of 10 individuals of Native American ancestry.

• Pursuant to 25 U.S.C. 3001(2), a relationship of shared group identity cannot be reasonably traced between the Native American human remains and any present-day Indian Tribe.

• According to final judgments of the Indian Claims Commission or the Court of Federal Claims, the land from which the Native American human remains were removed is the aboriginal land of The Consulted Tribes.

• Treaties, Acts of Congress, or Executive Orders, indicate that the land from which the Native American human remains were removed is the aboriginal land of The Consulted Tribes.

• Pursuant to 43 CFR 10.11(c)(1), the disposition of the human remains may be to The Consulted Tribes.

Additional Requestors and Disposition

Representatives of any Indian Tribe or Native Hawaiian organization not identified in this notice that wish to request transfer of control of these human remains should submit a written request with information in support of the request to the Federal Bureau of Investigation, FBI Headquarters, Attn: Supervisory Special Agent Timothy Carpenter, Art Theft Program, 935 Pennsylvania Avenue NW, Washington, DC 20535, telephone (954) 931-3670, email artifacts@ic.fbi.gov, by February 27, 2020. After that date, if no additional requestors have come forward, transfer of control of the human remains to The Consulted Tribes may proceed.

The Federal Bureau of Investigation is responsible for notifying The Consulted Tribes that this notice has been published.

Dated: November 14, 2019.
Melanie O'Brien,
Manager, National NAGPRA Program.

[FR Doc. 2020-01354 Filed 1-27-20; 8:45 am]

BILLING CODE 4312-52-P